DELAWARE RIVER BASIN COMMISSION

18 CFR Part 410

Amendments to the Water Quality Regulations, Water Code and Comprehensive Plan To Classify the Lower Delaware River as Special Protection Waters

AGENCY: Delaware River Basin Commission.

ACTION: Proposed Rule.

SUMMARY: The Commission will hold a public hearing to receive comments on proposed amendments to the Commission's Water Quality Regulations, Water Code and Comprehensive Plan to establish numeric values for existing water quality for the reach of the main stem Delaware River known as the “Lower Delaware” and on a permanent basis to assign this reach the SPW classification “Significant Resource Waters” (SRW). Since 2005, the Lower Delaware has carried the SRW classification on a temporary basis. Also proposed is language intended to clarify aspects of the SPW regulations that have been a source of confusion for some DRBC docket holders and applicants since the program was originally adopted in 1992 for point sources and in 1994 for non-point sources.

DATES: The public hearing will take place on December 4, 2007 at 2:30 p.m., and will continue until all those who wish to testify are afforded an opportunity to do so. Written comments will be accepted through the close of business on December 6, 2007. The Commission will hold two informational meetings on the proposed rulemaking, the first of which will be held on Thursday, October 25, 2007 from 7 p.m. to 9 p.m., and the second, on Thursday, November 1, 2007 from 7 p.m. to 9 p.m.

ADDRESSES: The public hearing on December 4 will be held at the Commission's office building, located at 25 State Police Drive, West Trenton, New Jersey. Driving directions are available on the Commission's Web site, www.drbc.net. Please do not rely on Internet mapping services as they may not provide accurate directions to the DRBC. Written comments may be submitted by e-mail to paula.schmitt@drbc.state.nj.us; by fax to Commission Secretary at 609-883-9522; by U.S. Mail to Commission Secretary, DRBC, P.O. Box 7360, West Trenton, NJ 08628-0360; or by overnight mail to Commission Secretary, DRBC, 25 State Police Drive, West Trenton, NJ 08628-0360. In all cases, please include the commenter's name, address and affiliation if any in the comment document and include “SPW” in the subject line. The first of the two informational meetings will take place at the office of the Delaware and Raritan Canal Commission at the Prallsville Mills Complex, 33 Risler Street (Route 29) in Stockton, New Jersey on October 25. The second will take place in Room 315 of the Acopian Engineering Building at Lafayette College, High Street, Easton, Pennsylvania on November 1.

FOR FURTHER INFORMATION CONTACT: The current rule and the full text of the proposed amendments are posted on the Commission's Web site, www.drbc.net, along with supporting data, reports, maps, and related documents. Hard copies may be obtained by contacting Ms. Paula Schmitt at 609-883-9500, ext. 224. Please contact Commission Secretary Pamela Bush, 609-883-9500 ext. 203 with questions about the proposed rule or the rulemaking process.

SUPPLEMENTARY INFORMATION: The Special Protection Waters regulations, consisting of Section 3.10.3.A.1. of the Commission's Water Quality Regulations, are intended to maintain the quality of interstate waters where existing water quality is better than the established stream quality objectives. They include rules that discourage new and increased discharges to designated waters. Where such discharges are permitted, the rules ensure that incremental pollutant loadings and visual impacts are minimized, that minimum standards of treatment are applied, and that new loadings cause no measurable change from existing water quality, as defined by the rule, except toward natural conditions.

The SPW regulations currently include a table establishing the numeric values that define existing water quality in the stream reaches permanently classified by the Commission as SPW in 1992. These reaches are located within the Upper Delaware Scenic and Recreational River Corridor and the Middle Delaware Scenic and Recreational River Corridor, between Hancock, New York, at River Mile (RM) 330.7 and the southern boundary of the Delaware Water Gap National Recreation Area at RM 209.5. They include the main stem and portions of intrastate tributaries to the Delaware located within the boundaries of the scenic and recreational corridors. The locations of water quality control points between Hancock, New York and RM 209.5 are provided in a second table. The water quality control points are the locations used to assess water quality for purposes of defining and protecting it. No changes are proposed at this time to the permanent classifications and water quality control points that the Commission established in 1992.

The portion of the non-tidal Delaware River known as the “Lower Delaware” extends from the southern boundary of the Delaware Water Gap National Recreation Area at RM 209.5 to the head of tide at Trenton, New Jersey, RM 133.4. Since 2005, the SPW regulations have listed the main stem Lower Delaware River as “Significant Resource Waters” (SRW) on a temporary basis and have applied a portion of the SPW regulations to this reach. The temporary classification was made pending the development of numeric values for existing water quality in the Lower Delaware and a determination as to whether the SRW classification should be assigned to the entire reach or whether the alternative classification, “Outstanding Basin Waters” (OBW), should be used for those portions eligible for that classification by virtue of their inclusion in the National Wild and Scenic Rivers System. The proposed amendments would permanently classify the entire Lower Delaware reach as SRW. By incorporating into the regulation a set of numeric values for existing water quality at established Lower Delaware River water quality control points, the amendments also would allow all applicable provisions of the SPW regulations, including those for “no measurable change” to existing water quality as defined by the rule, to apply to projects within the Lower Delaware drainage.

Key provisions of the SPW regulations that will continue to apply within the drainage area to the Lower Delaware River if the proposed amendments are approved include the following: Sections 3.10.3 A.2.c.1. through 3., in part requiring that no new or expanded wastewater discharges may be permitted in waters classified as SPW until all non-discharge-load reduction alternatives have been fully evaluated and rejected because of technical or financial infeasibility; sections 3.10.3 A.2.d.1. through 7., setting forth requirements for wastewater treatment facilities; and sections 3.10.3 A.2.e.1. and 2., conditioning project approval on the existence of an approved Non-Point Source Pollution Control Plan for the project area and requiring that approval of a new or expanded withdrawal and/or wastewater discharge project be subject to the condition that new connections to the project system be limited to service areas regulated by a non-point source pollution control plan approved by the Commission.

If the proposed amendments are adopted, numeric values for twenty parameters will be established, defining existing water quality by rule for purposes of the SPW program at 24 water quality control points in the Lower Delaware River. The parameters include: Ammonia-ammonium NH3-NH4 (mg/l), chloride (mg/l), chlorophyll a (mg/m³), dissolved oxygen (mg/l), dissolved oxygen saturation (%), E. coli (colonies/100 ml), enterococcus (colonies/100 ml), fecal coliform (colonies/100 ml), nitrate NO3-N (mg/l), orthophosphate (mg/l), pH, specific conductance (umhos/cm), total dissolved solids (mg/l), total Kjeldahl nitrogen (mg/l), total nitrogen (mg/l), total phosphorus (mg/l), total suspended solids (mg/l), turbidity (NTU), alkalinity (mg/l), and hardness (mg/l). The proposed values are based upon five years of ambient water quality monitoring, from 2000 through 2004.

Adoption of numeric values for existing water quality and creation of a set of Boundary and Interstate Water Quality Control Points in the Lower Delaware River will mean that applicants seeking approval to construct new facilities or to expand existing facilities in the Lower Delaware drainage will be required for the first time to demonstrate that their new or increased discharges will cause no measurable degradation of existing water quality at the established water quality control points (sections 3.10.3 A.2.b.2. and 3.10.3 A.2.f.). As in the upper and middle portions of the non-tidal Delaware, the “no measurable change” requirement will apply whether a project discharges directly to the main stem or to a tributary. For certain main stem discharges, if minimum treatment standards alone do not ensure no measurable change at the downstream water quality control point, additional treatment may be required (section 3.10.3 A.2.b.2. in combination with section 3.10.3A.2.d.6.).

The amendments also would incorporate language intended to clarify aspects of the SPW regulations that have been a source of confusion for some DRBC docket holders and applicants since the program was originally adopted in 1992 for point sources and in 1994 for non-point sources. Notably, a new term—“substantial alterations or additions”—is proposed to be added to the Definitions section of the regulations and to be inserted in other sections of the rule to clarify which types of additions or alterations to existing wastewater treatment facilities will trigger certain SPW requirements that are deemed appropriate in connection with capital investment projects. For projects involving existing facilities discharging to SPW—whether in the upper, middle or lower portion of the Delaware River—only substantial additions or alterations as defined by the rule will trigger the requirements that no such project may be approved until (1) all non-discharge load reduction alternatives have been fully evaluated and rejected because of technical or financial infeasibility (section 3.10.3.A.2.c.1.) (OBW and SRW discharges); (2) the applicant has demonstrated the technical and/or financial infeasibility of using natural wastewater treatment technologies for all or a portion of the incremental load (section 3.10.3.A.2.d.5.) (OBW, SRW and tributary discharges); (3) the Commission has determined that the project is demonstrably in the public interest as defined by the rule (section 3.10.3.A.2.c.3.) (SRW discharges); and (4) the minimum level of treatment to be provided for such projects is Best Demonstrable Technology as defined by the rule (section 3.10.3.A.2.d.6.) (direct OBW and SRW discharges). The proposed amendments further clarify that alterations limited to changes in the method of disinfection and/or the addition of treatment works for nutrient removal at existing facilities are not deemed to be “substantial alterations or additions” triggering the foregoing requirements.

In addition, the proposed amendments more clearly define the baseline to be used in measuring predicted changes to existing water quality and in evaluating the effect of discharge/load reduction alternatives and/or natural treatment alternatives for projects that involve substantial alterations or additions to existing facilities. Also noteworthy, a new paragraph is proposed to expressly authorize effluent trading between point sources to satisfy the requirement for no measurable change to existing water quality under certain circumstances.

Previous Federal Register notices concerning designation of the Lower Delaware River as Special Protection Waters include notices published on September 23, 2004 (69 FR 57008) (proposed designation), August 22, 2005 (70 FR 48923) (proposed extension), August 21, 2006 (71 FR 48497) (proposed extension), and August 22, 2007 (72 FR 46931) (proposed extension). The proposed and final versions of the initial designation and the subsequent extensions also were published on the Commission's Web site, http://www.drbc.net.

Dated: October 2, 2007.
Pamela M. Bush,
Commission Secretary.

[FR Doc. E7-19799 Filed 10-5-07; 8:45 am]

BILLING CODE 6360-01-P